DEPARTMENT OF EDUCATION

[CFDA No. 84.170]

Jacob K. Javits Fellowship Program

AGENCY: Office of Postsecondary Education, Department of Education.

ACTION: Correction notice.

SUMMARY: On September 27, 2001 we published in the Federal Register (66 FR 49371) a notice inviting applications for new awards for FY 2002 for the Jacob K. Javits Fellowship Program (JKJ). The notice stated that the Secretary would determine the JKJ stipend level for the academic year 2002-2003 based on the level of support provided by the National Science Foundation (NSF) graduate fellowships, with adjustments as necessary to ensure that the amount would not exceed the fellow's demonstrated level of financial need.

This notice is to clarify that the Secretary will determine the stipend level for the JKJ by using the level of the NSF stipend level for the Graduate Research Fellowship Program as of April 16, 2002. The Secretary intended to specify a date for this determination in the notice inviting applications, but did not do so.

FOR FURTHER INFORMATION CONTACT: Carolyn Proctor, Jacob K. Javits Fellowship Program, U.S. Department of Education, International Education and Graduate Programs Service, 1990 K Street, NW, Suite 6000, Washington DC 20006-8521, Telephone: (202) 502-7567 or via Internet for the JKJ: ope_javits_program@ed.gov

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: www.ed.gov/legislation/FedRegister

To use PDF you must have the Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1135-1135e.

Dated: April 11, 2002.
Sally L. Stroup,
Assistant Secretary, Office of Postsecondary Education.

[FR Doc. 02-9236 Filed 4-15-02; 8:45 am]

BILLING CODE 4000-01-U